NATIONAL SCIENCE FOUNDATION

Proposal Review Panel for Materials Research; Notice of Meeting: Correction

SUMMARY: The National Science Foundation (NSF) published in the Federal Register on March 30, 2012, a notice of a partially open meeting for the Proposal Review Panel for Materials Research, #1203. This notice is to correct the ending time of the meeting on April 24, 2012 being held at the Pennsylvania State University, College Station, PA.

Correction

On page 19362, column 2, under Dates & Times, please replace “April 24, 2012; 5:30p.m.-8:30p.m.” with “April 24, 2012; 5:30p.m.-10:30p.m.”

On page 19362, column 3, line 3, please replace: “7 p.m.-8:30p.m. Open-Poster Session” with “7 p.m.-10:30p.m. Open-Poster Session”.

Dated: April 5, 2012.
Susanne Bolton,
Committee Management Officer.

[FR Doc. 2012-8564 Filed 4-9-12; 8:45 am]

BILLING CODE 7555-01-P